DEPARTMENT OF TRANSPORTATION

Federal Aviation Administration

Notice of Intent To Rule on Application To Impose and Use the Revenue From a Passenger Facility Charge (PFC) at Bismarck Municipal Airport, Bismarck, North Dakota

AGENCY: Federal Aviation Administration (FAA), DOT.

ACTION: Notice of intent to rule on application.

SUMMARY: The FAA proposes to rule and invites public comment on the application to impose and use the revenue from a PFC at Bismarck Municipal Airport under provisions of the Aviation Safety and Capacity Expansion Act of 1990 (Title IX of the Omnibus Budget Reconciliation Act of 1990) (Public Law 101-508) and Part 158 of the Federal Aviation Regulations (14 CFR Part 158).

DATES: Comments must be received on or before September 13, 2001.

ADDRESSES: Comments on this application may be mailed or delivered in triplicate to the FAA at the following address: Bismarck Airports District Office, 2301 University Drive, Building 23B, Bismarck, North Dakota 58504.

In addition, one copy of any comments submitted to the FAA must be mailed or delivered to Mr. Gregory B. Haug, Manager, Bismarck Municipal Airport at the following address: City of Bismarck, P.O. Box 991, Bismarck, North Dakota 58502.

Air carriers and foreign air carriers may submit copies of written comments previously provided to the City of Bismarck, North Dakota under section 158.23 of Part 158.

FOR FURTHER INFORMATION CONTACT: Mr. Thomas T. Schauer, Acting Manager, Federal Aviation Administration, Bismarck Airports District Office, 2301 University Drive, Building 23B, Bismarck, North Dakota 58504, (701) 323-7380. The application may be reviewed in person at this same location.

SUPPLEMENTARY INFORMATION: The FAA proposes to rule and invites public comment on the application to impose and use the revenue from a PFC at Bismarck Municipal Airport under provisions of the Aviation Safety and Capacity Expansion Act of 1990 (Title IX of the Omnibus Budget Reconciliation Act of 1990) (Public Law 101-508) and Part 158 of the Federal Aviation Regulations (14 CFR part 158).

On July 24, 2001, the FAA determined that the application to impose and use the revenue from a PFC submitted by the City of Bismarck was substantially complete within the requirements of section 158.25 of Part 158. The FAA will approve or disapprove the application, in whole or in part, no later than October 27, 2001.

The following is a brief overview of the application.

PFC application number: 01-03-C-00-BIS.

Level of the proposed PFC: $4.50.

Proposed charge effective date: May 1, 2002.

Proposed charge expiration date: January 1, 2004.

Total estimated PFC revenue: $944,055.00.

Brief description of proposed projects: Remove Taxiway A-4 and construct Taxiway C-4, update security access system, extend, light and mark Taxiway C and construct and mark Taxiways C-1, C-2 and C-3, remove Taxiways A, A-1, A-2, A-3, C-1, C-2 and C-3, abandon and remove Runway 17/35 and all associated electrical facilities, replace general aviation apron, update airport master plan-terminal area study, replace airport beacon, rehabilitate terminal ramp, purchase broom truck, preparation of PFC application. Class or classes of air carriers which the public agency has requested not be required to collect PFCs: Air taxis, filing FAA form 1800-31, except commuter air carriers.

Any person may inspect the application in person at the FAA office listed above under FOR FURTHER INFORMATION CONTACT.

In addition, any person may, upon request, inspect the application, notice and other documents germane to the application in person at the Bismarck Municipal Airport.

Issued in Des Plaines, Illinois, on July 31, 2001.
Barbara J. Jordan,
Acting Manager, Planning and Programming Branch, Airports Division, Grreat Lakes Region.

[FR Doc. 01-20313 Filed 8-13-01; 8:45 am]

BILLING CODE 4910-13-M